DEPARTMENT OF DEFENSE

Department of the Army

Army Science Board; Notice of Closed Meeting

In accordance with section 10(a)(2) of the Federal Advisory Committee ACT (P.L. 92-463) announcement is made of the following Study Group Meeting:

Name of Study Group: Asymmetric Study Group.

Date of Meeting: 13 June 2001.

Time of Meeting 0800-1630.

Place of Meeting: Directed Technologies, Inc., 3601 Wilson Boulevard, Suite 650, Arlington, VA 22201, Phone: (703) 243-3383, FAX: (703) 243-2724.

Agenda: The Army Science Board Study Group will conduct a study on “Asymmetric Threats to Land Based Operations (2015-2020)” as a means of examining and addressing innovative ways that asymmetric threats can be used to disrupt land based operations in the future. The 1-day meeting will be closed to the public. This meeting will be closed to the public in accordance with Section 552(c) of Title 5, U.S.C. Appendix 2, subsection 10(d). For further information, please contact Ms. Betty LaFavers, Office by the Assistant Secretary of the Army (Acquisition, Logistics and Technology), (703) 695-1683.

Wayne Joyner,
Executive Assistant, Army Science Board.

4th Meeting— “Asymmetric Threats to Land Based Operations 2015-2020''

Director Technologies, Inc., 3601 Wilson Boulevard, Suite 650, Arlington, VA 22201, 703 243-3383)—Fax 703 243-2724.

Agenda

13 June 2001

0800 Administrative Matters—Co-Chairs

815 Executive Session (Internal Working Sessions)—All

1000 Break

1015 Executive Session (Continued)—ALL

1230 Lunch & Roundtable Discussion

1300 Executive Session (Continued)—ALL

1500 Break

1515 Executive Session—ALL

1630 Ajourn—ALL

[FR Doc. 01-13533 Filed 5-29-01; 8:45 am]

BILLING CODE 3710-08-M